DEPARTMENT OF TRANSPORTATION

Federal Railroad Administration

[Docket Number FRA-2011-0048]

Petition for Waiver of Compliance

Under part 211 of title 49 Code of Federal Regulations (CFR), this document provides the public notice that on April 1, 2021, Tri-County Metropolitan Transportation District of Oregon (TriMet) petitioned the Federal Railroad Administration (FRA) for an extension of a waiver of compliance from certain provisions of the Federal railroad safety regulations contained at 49 CFR parts 219, Control of Alcohol and Drug Use, and 229, Railroad Locomotive Safety Standards. FRA assigned the petition Docket Number FRA-2011-0048.

Specifically, TriMet seeks to extend its current relief from 49 CFR part 219. TriMet explains it alternatively complies with the Federal Transit Administration's 49 CFR part 655, Prevention of Alcohol Misuse and Prohibited Drug Use in Transit Operations, which provides an equivalent level of safety.

TriMet also seeks to extend its relief from 49 CFR 229.125, Headlights and auxiliary lights, explaining that its rail fixed guideway transit vehicles are designed to operate on city streets in close proximity to automobile traffic. TriMet states that these vehicles also comply with the National Highway Traffic Safety Administration's Federal Motor Vehicle Safety Standard No. 108 for lamps and reflective devices. TriMet further states that its rolling stocks' headlights meet requirements for conspicuity and are the same as those found in the rest of the fleet that currently operate on rail fixed guideway urban transit systems not under FRA's jurisdiction. TriMet explains that while the auxiliary lights do not meet the brightness requirements of 49 CFR 229.125(d)(2), the auxiliary lights provide an equivalent level of conspicuity to the light rail vehicles, thereby meeting FRA's regulatory objective.

This extension of relief would only apply to TriMet's 7.3-mile long MAX Orange Line rail fixed guideway urban rapid transit passenger service's limited connections to the general railroad system where it operates in the cities of Portland and Milwaukie, Oregon, serving 10 stations. Two segments of the Orange Line share a common corridor with Union Pacific Railroad Company (UPRR) and Portland & Western Railroad (PWRR). That corridor includes a total of seven railroad-transit shared road crossings (highway-rail) with UPRR and PWRR, and one railroad-transit at-grade crossing (rail-rail) with Oregon Pacific Railroad.

FRA first granted this relief in 2011 prior to revenue service, and extended the relief in 2016 when revenue service commenced. In its petition, TriMet states that there have been no significant changes to the configuration of the Orange Line, no accidents on the Orange Line arising from its limited connections to the general railroad system, and no accidents related to the waiver of the two regulations under consideration.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by May 27, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2021-07472 Filed 4-9-21; 8:45 am]

BILLING CODE 4910-06-P